DEPARTMENT OF COMMERCE

National Oceanic and Atmospheric Administration

[RTID 0648-XA997]

Fisheries Off West Coast States; Pacific Coast Groundfish Fishery; Electronic Monitoring (EM) Program; Notice of EM Program Guidelines

AGENCY: National Marine Fisheries Service (NMFS), National Oceanic and Atmospheric Administration (NOAA), Commerce.

ACTION: Notice of availability.

SUMMARY: NMFS is providing guidelines for the development of Electronic Monitoring Service Plans (EMSP) and Vessel Monitoring Plans (VMPs) by EM service providers and vessel owners applying to participate in the Pacific Coast Groundfish EM Program. An EMSP is required as part of an application for an EM service provider permit and endorsement and describes how an EM Service Provider will provide EM services to contracted vessels. A VMP is required as part of an application for a vessel owner seeking authorization to use EM in lieu of a human observer and documents how the EM system will be used to monitor the vessel. NMFS is required to develop EM Program Guidelines and publish notice of their availability in the Federal Register.

DATES: Applicable May 24, 2021.

FOR FURTHER INFORMATION CONTACT: Justin Kavanaugh, EM Program Coordinator, phone: 206-526-4353, justin.kavanaugh@noaa.gov.

Electronic Access

The EM Program Guidelines documents are posted online at: https://www.fisheries.noaa.gov/permit/electronic-monitoring-program-service-provider-application-and-service-plan.

SUPPLEMENTARY INFORMATION: The regulations at 50 CFR part 660, subpart J describe the requirements for an EM program for the West Coast Groundfish Trawl Catch Share Program. Vessels participating in the EM program may use EM systems (cameras and associated sensors) in lieu of human observers to meet the requirements of the Catch Share Program for 100-percent at-sea monitoring. Interested vessel owners must submit an application to NMFS, including a VMP that describes how fishing operations on the vessel will be conducted and how the EM system and associated equipment will be configured to effectively monitor fishing activities and document any discards. Required components of the VMP are described in the Federal regulations at 50 CFR 660.604(e)(3)(iii). NMFS will review the VMP to ensure that the equipment installed and the proposed operations of the vessel would effectively monitor vessel operations. NMFS has created VMP Guidelines to provide vessel owners additional information on what NMFS is looking for in a VMP and describes best practices and suggested language to satisfy the required components. Vessel owners may propose and NMFS may consider alternative, but equivalent, methods to meet the requirements of the EM program in the VMP. Through this Federal Register notice, NMFS is notifying interested vessel owners of the availability of the VMP Guidelines on its website.

Vessel owners authorized to use EM are required to obtain an EM system from a NMFS-permitted service provider, as well as services to install and maintain the EM system, and to process, store, and report EM data to NMFS. EM service providers interested in providing EM services to participating vessels must apply to NMFS for a permit. EM service providers must develop and submit an EMSP as part of the application for an EM provider permit, and must describe in detail how the applicant will provide EM services to vessels. The required components of an EMSP are described in Federal regulations at 50 CFR 660.603(b)(1)(vii). NMFS will review EMSPs as part of the application to ensure that it meets all required components, and would effectively fulfill the EM service provider responsibilities. NMFS has created EMSP Guidelines that describe the requirements for EM service providers, the required elements of the EMSP, as well as best practices, recommendations, and other information that NMFS will use to evaluate proposed EMSPs and to evaluate the performance of EM service providers in meeting the regulations to achieve the purpose of the EM Program. Specific requirements and standards for EM data processing, reporting, and other services are contained in the EM Program Manual on NMFS's website. The EMSP need only address the regulations at 50 CFR 660.603 “Electronic monitoring provider permits and responsibilities”; additional best practices and recommendations in this document are only examples of how the EM service provider may meet the requirements. If the provider does not utilize the recommended best practices or procedures, the EM service provider should explain in its EMSP how it would otherwise meet the EM Program requirements. An EM service provider may propose alternative, but equivalent methods to any of the recommendations in this document in their EMSP, and NMFS may consider and approve those methods if they achieve the purpose of the EM program as defined at 50 CFR 660.600(b) “EM program purpose”.

Through this Federal Register notice, NMFS is notifying interested EM service providers of the availability of the EM Program Guidelines and EM Program Manual on its website, as required by 50 CFR 660.600(b).

Authority: 16 U.S.C. 1801 et seq.

Dated: May 18, 2021.
Jennifer M. Wallace,
Acting Director, Office of Sustainable Fisheries, National Marine Fisheries Service.

[FR Doc. 2021-10824 Filed 5-21-21; 8:45 am]

BILLING CODE 3510-22-P